SMALL BUSINESS ADMINISTRATION

[Disaster Declaration # 10132]

Nebraska Disaster # NE-00002

AGENCY: U.S. Small Business Administration.

ACTION: Notice.

SUMMARY: This is a Notice of the Presidential declaration of a major disaster for Public Assistance Only for the State of Nebraska (FEMA—1590—DR), dated June 23, 2005.

Incident: Severe Storms and Flooding.

Incident Period: May 11, 2005, through May 12, 2005.

DATES: Effective Date: June 23, 2005.

Physical Loan Application Deadline Date: August 22, 2005.

ADDRESSES: Submit completed loan applications to: U.S. Small Business Administration, Disaster Area Office 3, 14925 Kingsport Road, Fort Worth, TX 76155.

FOR FURTHER INFORMATION CONTACT: Alan Escobar, Office of Disaster Assistance, U.S. Small Business Administration, 409 3rd Street, Suite 6050, Washington, DC 20416.

SUPPLEMENTARY INFORMATION: Notice is hereby given that as a result of the President's major disaster declaration on June 23, 2005, applications for Private Non-Profit organizations that provide essential services of a governmental nature may file disaster loan applications at the address listed above or other locally announced locations.

The following areas have been determined to be adversely affected by the disaster:

Primary Counties:

Adams, Buffalo, Fillmore, Frontier, Hall, Hamilton, Howard, Kearney, Merrick, Seward, York

The Interest Rates are:

| Percent
Other (Including Non-Profit Organizations) with Credit Available Elsewhere | 4.750
Businesses and Non-Profit Organizations without Credit Available Elsewhere | 4.000

The number assigned to this disaster for physical damage is 10132.

(Catalog of Federal Domestic Assistance Number 59008).

Herbert L. Mitchell,
Associate Administrator for Disaster Assistance.

[FR Doc. 05-13407 Filed 7-7-05; 8:45 am]

BILLING CODE 8025-01-P